INTERNATIONAL TRADE COMMISSION

[Investigation No. 337-TA-596]

In the Matter of Certain GPS Chips, Associated Software and Systems, and Products Containing Same; Notice of Commission Decision Not To Review a Final Determination Finding No Violation of Section 337

AGENCY: U.S. International Trade Commission.

ACTION: Notice.

SUMMARY: Notice is hereby given that the U.S. International Trade Commission has determined not to review the presiding administrative law judge's (“ALJ”) final initial determination (“ID”) issued on June 13, 2008 finding no violation of section 337 of the Tariff Act of 1930, 19 U.S.C. 1337 in the above-captioned investigation.

FOR FURTHER INFORMATION CONTACT: Megan M. Valentine, Esq., Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 13, 2007, based on a complaint filed by SiRF Technology, Inc. (“SiRF”) of San Jose, California. 72 FR 11378 (March 13, 2007). The complaint alleged violations of section 337 of the Tariff Act of 1930 (19 U.S.C. 1337) in the importation into the United States, the sale for importation, and the sale within the United States after importation of certain GPS chips, associated software and systems, and products containing the same by reason of infringement of certain claims of United States Patent Nos. 6,304,216 (“the '216 patent”); 7,043,363 (“the '363 patent”); 7,091,904 (“the '904 patent”); and 7,132,980 (“the '980 patent”). The complaint named as respondent Global Locate, Inc. of San Jose, California (“Global Locate”). The complaint and notice of investigation were later amended to include one additional claim of the '904 patent. Subsequently, the investigation was terminated with respect to the '904 patent, the '980 patent, and certain claims of the '216 and the '363 patents, and the complaint and notice of investigation were amended to add Broadcom, Inc. of Irvine, California (“Broadcom”) as a respondent to the investigation.

On March 13, 2008, the Commission determined not to review an ID issued by the ALJ granting in part SiRF's motion for summary determination that it had satisfied the importation requirements of 19 U.S.C. 1337. On March 20, 2008, the Commission further determined not to review an ID issued by the ALJ granting SiRF's motion for summary determination that it had satisfied the economic prong of the domestic industry requirement.

On June 13, 2008, the ALJ issued his final ID finding no violation of section 337 by respondents Global Locate and Broadcom. The ID included the ALJ's recommended determination on remedy and bonding. In the subject ID, the ALJ found that Global Locate's products do not infringe asserted claims 1, 6, 10-12, 17-19, 64, 65, 69, 70, 72, or 73 of the '216 patent. The ALJ also found that the asserted claims are not invalid as anticipated by any prior art. The ALJ further found that SiRF failed to prove that a domestic industry exists for articles protected by the '216 patent. In addition, the ALJ found that Global Locate's products do not infringe asserted claims 7, 8, 10-12, 16, and 18-20 of the '363 patent. The ALJ also found that the asserted claims of the '363 patent are invalid as anticipated by each of the GPS Builder System and the First GPS system. The ALJ further found that SiRF has established that a domestic industry exists for articles protected by the '363 patent.

On June 27, 2008, SiRF filed a petition for review seeking review of the ALJ's ID with respect to the '216 patent. Also on June 27, 2008, Global Locate filed a contingent petition for review, seeking review of certain aspects of the ALJ's findings concerning both the '216 and '363 patents. On July 7, 2008, Global Locate filed an opposition to SiRF's petition for review and SiRF filed a response to Global Locate's contingent petition for review. Also on July 7, 2008, the Commission Investigative Attorney filed a response to both SiRF's petition and Global Locate's contingent petition.

Having examined the record of this investigation, including the ALJ's final ID, the petitions for review, and the responses thereto, the Commission has determined not to review the subject ID.

The authority for the Commission's determination is contained in section 337 of the Tariff Act of 1930, as amended (19 U.S.C. 1337), and in section 210.42(h) of the Commission's Rules of Practice and Procedure (19 CFR 210.42(h)).

By order of the Commission.
Issued: August 14, 2008.
William R. Bishop,
Acting Secretary to the Commission.

[FR Doc. E8-19209 Filed 8-19-08; 8:45 am]

BILLING CODE 7020-02-P